DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2017 Economic Census.

OMB Control Number: None.

Form Number(s): The almost 800 electronic path numbers are too numerous to list here.

Type of Request: New collection.

Number of Respondents: 4,214,680.

Average Hours per Response: 1.3 hours.

Burden Hours: 5,691,972.

Needs and Uses: The 2017 Economic Census will use direct data collection and administrative records to compile statistics on approximately 7 million employer business establishments in industries defined by the 2017 North American Industry Classification System (NAICS). This request for approval covers the information collection instruments and procedures that will be used in the enumeration of U.S. domestic businesses. The enumeration in the Island Areas (Puerto Rico, Guam, the Commonwealth of the Northern Marianas Islands, the U.S. Virgin Islands, and American Samoa) will be submitted separately to the Office of Management and Budget (OMB) for approval. In addition to the general enumeration of businesses, the 2017 census program also includes surveys of business owners and commodity flows. Those surveys will also be submitted separately.

The public administration sector is out of scope to the economic census. The U.S. Census Bureau conducts, and will submit separately for approval, the quinquennial census of governments and other current programs that measure the activities of government establishments.

The 2017 Economic Census will cover the following NAICS sectors of the U.S. economy:

• Mining, Quarrying, and Oil and Gas Extraction

• Utilities

• Construction

• Manufacturing

• Wholesale Trade

• Retail Trade

• Transportation and Warehousing

• Information

• Finance and Insurance

• Real Estate and Rental and Leasing

• Professional, Scientific and Technical Services

• Management of Companies and Enterprises

• Administrative and Support and Waste Management and Remediation Services

• Educational Services

• Health Care and Social Assistance

• Arts, Entertainment, and Recreation

• Accommodation and Food Services

• Other Services (Except Public Administration)

The economic census will produce basic statistics by industry for the number of establishments, value of shipments/receipts/revenue/sales, payroll, and employment. It also will yield a variety of industry-specific statistics, including materials consumed, detailed supplies and fuels consumed, electric energy consumed, depreciable assets, selected purchased services, inventories, and capital expenditures, value of shipments/receipts/revenue/sales by product line as defined by the North American Product Classification System (NAPCS), type of operation, size of establishments, and other industry-specific measures.

The Economic Census is the primary source of information about the structure and functioning of the nation's economy and features unique industry, product and geographic detail. Economic census statistics serve as part of the framework for the national accounts and provide essential information for government, business, and the general public. The Federal Government, including agencies such as the Bureau of Economic Analysis (BEA) and the Bureau of Labor Statistics (BLS), use information from the economic census as an important part of the framework for the national income and product accounts, input-output tables, economic indices, and other composite measures that serve as the factual basis for economic policy-making, planning, and program administration. Further, the census provides sampling frames and benchmarks for current business surveys which track short-term economic trends, serve as economic indicators, and contribute critical source data for current estimates of gross domestic product. State and local governments rely on the economic census as a unique source of comprehensive economic statistics for small geographic areas for use in policy-making, planning, and program administration. Finally, industry, business, academia, and the general public use information from the economic census for evaluating markets, preparing business plans, making business decisions, developing economic models and forecasts, conducting economic research, and establishing benchmarks for their own sample surveys.

Affected Public: Businesses; Not-for-profit institutions; State, local or tribal governments.

Frequency: Every five years.

Respondent's Obligation: Mandatory.

Legal Authority: The economic census is required by law under Title 13, United States Code (U.S.C.), Section 131 which mandates the taking of a census at 5-year intervals. Section 224 makes reporting mandatory.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
PRA Departmental Lead, Office of the Chief Information Officer.

[FR Doc. 2017-04754 Filed 3-9-17; 8:45 am]

BILLING CODE 3510-07-P